DEPARTMENT OF STATE

[Public Notice 7287]

Bureau of Nonproliferation; Determination Under the Arms Export Control Act

AGENCY: Department of State.

ACTION: Notice.

Pursuant to Section 654(c) of the Foreign Assistance Act of 1961, as amended, notice is hereby given that the Under Secretary of State for Arms Control and International Security has made a determination pursuant to Section 73 of the Arms Export Control Act and has concluded that publication of the determination would be harmful to the national security of the United States.

Dated: December 29, 2010.
Vann H. Van Diepen,
Acting Assistant Secretary of State for Nonproliferation.

[FR Doc. 2011-22 Filed 1-5-11; 8:45 am]

BILLING CODE 4710-27-P